DEPARTMENT OF STATE

[Public Notice 6830]

Meetings of the United States-Chile Environment Affairs Council and Joint Commission for Environmental Cooperation

ACTION: Notice of the U.S.-Chile Environmental Affairs Council and Joint Commission for Environmental Cooperation and request for comments.

SUMMARY: The Department of State and the Office of the United States Trade Representative (USTR) are providing notice that the United States and Chile intend to hold the fifth meeting of the Environment Affairs Council (the “Council”) and the third meeting of the Joint Commission for Environmental Cooperation (the “Commission”) in Washington, DC, on January 20, 2010. These bodies were created pursuant to Chapter 19 (Environment) of the United States-Chile Free Trade Agreement (FTA) and Article II of the United States-Chile Environmental Cooperation Agreement (ECA), respectively. A public information session will be held on January 20th, at 2 p.m., in room 1107 at the U.S. Department of State, 2201 C Street, NW., Washington, DC 20520. If you would like to attend the session, please send the following information to Jacqueline Tront at the fax number or e-mail address listed below under the heading ADDRESSES: (1) Your name, (2) your date of birth, and (3) the number of a valid identification card that a government has issued to you.

The purpose of the Council and Commission meeting is detailed below under SUPPLEMENTARY INFORMATION.

The meeting agenda will include an overview of Chapter 19 and review of its implementation, progress report on projects outlined in the FTA's Annex 19.3 on Environmental Cooperation, a discussion of the roles and activities of the Trade and Environment Policy Advisory Committee and the public advisory committee that advises the Chilean government on trade and environment policy issues, an overview of progress of implementing selected projects under the 2007-2008 Work Program pursuant to the ECA, and the presentation of a new ECA Work Program. The Department of State and USTR invite interested agencies, organizations, and members of the public to submit written comments or suggestions regarding agenda items and to attend the public session.

In preparing comments, we encourage submitters to refer to:

• Chapter 19 of the FTA, including Annex 19.3

• The Final Environment Review of the FTA

• The ECA

These documents are available at: http://www.state.gov/g/oes/env/trade/chile/index.htm.

DATES: The Council/Commission meeting is to be held:

(1) January 20, 2010, 2 p.m. to 4:45 p.m., Washington, DC.

To be assured of timely consideration, comments are requested no later than January 10, 2009.

ADDRESSES: Written comments or suggestions should be submitted to both:

(1) Jacqueline Tront, Office of Environmental Policy, Bureau of Oceans, Environment, and Science, U.S. Department of State, by electronic mail at trontjm@state.gov with the subject line “U.S.-Chile EAC/JCEC Meeting” or by fax to (202) 647-5947; and

(2) Mara M. Burr, Deputy Assistant United States Trade Representative for Environment and Natural Resources, Office of the United States Trade Representative by electronic mail at mburr@ustr.eop.gov with the subject line “U.S.-Chile EAC/JCEC Meeting” or by fax to (202) 395-9517.

FOR FURTHER INFORMATION CONTACT: Jacqueline Tront, Telephone (202) 647-4750 or Mara M. Burr, Telephone (202) 395-7320.

SUPPLEMENTARY INFORMATION: The United States-Chile FTA entered into force on January 4, 2004. Article 19.3 of the FTA establishes an Environment Affairs Council, which is required to meet at least once a year to discuss the implementation of, and progress under, Chapter 19. Chapter 19 requires that meetings of the Council include a public session. Under Chapter 19, the two governments agreed to undertake eight specific cooperative activities set out in Annex 19.3 to the Chapter and to negotiate a United States-Chile Environmental Cooperation Agreement to establish priorities for further cooperative environmental activities. The ECA entered into force on April 30, 2004, and sets out a framework for environmental cooperative activities between the two governments. Article II of the ECA establishes the United States-Chile Joint Commission for Environmental Cooperation, with responsibilities that include developing and periodically reviewing a work program. The Commission is required to meet at least every two years. The first meetings of the Council and the Commission were held on July 22, 2004, in Santiago, Chile, and the third meeting of the Council and second meeting of the Commission were held on October 23-24, 2006, in Santiago, Chile.

At the fourth Council meeting held on April 24, 2008, in Santiago, Chile, the Council discussed the implementation of Chapter 19 of the FTA with respect to public participation, progress reports on the eight cooperative projects under Chapter 19, implementation of the 2005-2006 Work Program, and elaboration of the 2007-2008 Work Program. At that meeting the Trade and Environment Policy Advisory Committee and Chile's Advisory Committee held the first ever exchange between FTA-related trade and environment advisory committees.

At the upcoming fifth meeting of the Council, the Council will review the status of implementation of Chapter 19 and receive reports on levels of environmental protection (Article 19.1), enforcement of environmental laws (Article 19.2), opportunities for public participation (Article 19.4), the environment roster (Article 19.7), procedural matters (Article 19.8) and principles of corporate stewardship (Article 19.10). The Council will also assess the progress of projects outlined in Annex 19.3, the roles and activities of the Trade and Environment Policy Advisory Committee and the public advisory committee that advises the Chilean government on trade and environment policy issues, and the 2009-2010 Work Program Pursuant to the ECA. At its third meeting, the Commission, during a Joint Public Session with the Council, will receive reports on progress of implementing the 2007-2008 ECA Work Program and review and approve a new work program. At these meetings, the Council and Commission will also consider recommendations for future bilateral environmental cooperation. The public is advised to refer to the State Department Web site at http://www.state.gov/g/oes/env/trade/chile/index.htm and the USTR Web site at http://www.USTR.gov for further information.

Dated: November 30, 2009.
Willem H. Brakel,
Acting Director, Office of Environmental Policy, Department of State.

[FR Doc. E9-28877 Filed 12-2-09; 8:45 am]

BILLING CODE 4710-09-P